DEPARTMENT OF DEFENSE

Office of the Secretary

Establishment of the National Commission on the Structure of the Air Force

AGENCY: DoD.

ACTION: Establishment of Federal Advisory Committee.

SUMMARY: Under the provisions of the Federal Advisory Committee Act of 1972 (5 U.S.C. Appendix), the Government in the Sunshine Act of 1976 (5 U.S.C. 552b), and 41 CFR 102-3.50(a), the Department of Defense gives notice that it is establishing the charter for the National Commission on the Structure of the Air Force (hereinafter referred to as “the Commission”). The Commission has been determined to be in the public interest.

FOR FURTHER INFORMATION CONTACT: Jim Freeman, Advisory Committee Management Officer for the Department of Defense, 703-692-5952.

SUPPLEMENTARY INFORMATION: The Commission is a non-discretionary federal advisory committee that no later than February 1, 2014, shall submit to the President and the Congressional defense committees a report containing a detailed statement of the findings and conclusions of the Commission as a result of the study required by Section 363(a) of the FY 2013 NDAA, together with its recommendations for such legislation and administrative actions it may consider appropriate in light of the results of the study.

In considering the structure of the Air Force, the Commission shall give particular consideration to evaluating a structure that:

a. Meets current and anticipated requirements of the combatant commands;

b. Achieves an appropriate balance between the regular and reserve components of the Air Force, taking advantage of the unique strengths and capabilities of each;

c. Ensures that the regular and reserve components of the Air Force have the capacity needed to support current and anticipated homeland defense and disaster assistance missions in the United States;

d. Provides for sufficient numbers of regular members of the Air Force to provide a base of trained personnel from which the personnel of the reserve components of the Air Force could be recruited;

e. Maintains a peacetime rotation force to support operational tempo goals of 1:2 for regular members of the Air Force and 1:5 for members of the reserve components of the Air Force; and

f. Maximizes and appropriately balances affordability, efficiency, effectiveness, capability, and readiness.

The Commission may hold such hearings, sit and act at such times and places, take such testimony, and receive such evidence as the Commission considers advisable to carry out its mission.

The Commission may secure directly from any Federal department or agency such information as the Commission considers necessary to carry out its duties. Upon request of the Chair of the Commission, the head of such department or agency shall furnish such information to the Commission.

The Commission, pursuant to Section 362(b)(1) of the FY 2013 NDAA, shall be composed of eight members. In making appointments, consideration should be given to individuals with expertise in reserve forces policy. The Commission's membership shall include:

a. Four appointed by the President;

b. One appointed by the Chairman of the Committee on Armed Services of the Senate;

c. One appointed by the Ranking Member of the Committee on Armed Services of the Senate;

d. One appointed by the Chairman of the Committee on Armed Services of the House of Representatives; and

e. One appointed by the Ranking Member of the Committee on Armed Services of the House of Representatives.

Pursuant to Section 362(b)(2) of FY 2013 NDAA, the appointments of the members of the Commission shall be made not later than 90 days after the enactment of the FY 2013 NDAA.

If one or more appointments under Section 12, subparagraph (a) above is not made by the appointment date specified in Section 362(b)(2) of the FY 2013 NDAA, the authority to make such appointment or appointments shall expire, and the number of members of the Commission shall be reduced by the number equal to the number of appointments so not made. If an appointment under Section 12, subparagraphs (b)-(e) above is not made by the appointment date specified in Section 362(b)(2) of the FY 2013 NDAA, the authority to make an appointment shall expire, and the number of members of the Commission shall be reduced by the number equal to the number otherwise appointable.

Members shall be appointed for the life of the Commission. Any vacancy in the Commission shall not affect its powers, but shall be filled in the same manner as the original appointment.

The Commission members shall select a Chair and Vice Chair from the total membership.

Commission members who are full-time or permanent part-time Federal officers or employees shall be appointed as regular government employee (RGE) members. Commission members who are not full-time or permanent part-time Federal officers or employees shall be appointed as experts and consultants under the authority of 5 U.S.C. 3109 and serve as special government employee (SGE) members.

Consistent with Section 365(a) of the FY 2013 NDAA, each member of the Commission who is not an officer or employee of the Federal Government shall be compensated at a rate equal to the daily equivalent of the annual rate of basic pay prescribed for level IV of the Executive Schedule under 5 U.S.C. 5315, for each day (including travel time) during which such member is engaged in the performance of the duties of the Commission. All members of the Commission who are officers or employees of the United States shall serve without compensation in addition to that received for their services as officers or employees of the United States.

The members of the Commission shall be allowed travel expenses, including per diem in lieu of subsistence, at rates authorized for employees of agencies under subchapter I of chapter 57 of 5 U.S.C., while away from their homes or regular places of business in the performance of services for the Commission.

The DoD, when necessary and consistent with the Commission's mission and DoD policies/procedures, may establish subcommittees, task forces, or working groups to support the Commission. Establishment of subcommittees will be based upon written determination, to include terms of reference, by the Secretary of Defense, the Deputy Secretary of Defense, or the DA&M, as the sponsor. All subcommittees, task forces, or working groups shall operate under the provisions of the FACA, the Sunshine Act, governing Federal statutes and regulations, and established DoD policies and procedures.

Such subcommittees shall not work independently of the chartered Commission, and shall report all of their recommendations and advice solely to the Commission for full deliberation and discussion. Subcommittees, task forces, or working groups have no authority to make decisions and recommendations, verbally or in writing, on behalf of the chartered Commission. No subcommittee or any of its members can update or report, verbally or in writing, on behalf of the committee, directly to DoD or any Federal officer or employee.

All subcommittee members shall be appointed by the Secretary of Defense according to governing DoD policies and procedures even if the member in question is already a member of the Commission. Such individuals, if not full-time or permanent part-time Federal officers or employees, shall be appointed to serve as experts and consultants, under the authority of 5 U.S.C. 3109, and shall serve as SGE members.

Subcommittee members, with the approval of the Secretary of Defense, may serve a term of service for the life of the subcommittee. With the exception of travel and per diem for official travel related to the Commission or its subcommittees, subcommittee members shall serve without compensation.

The Commission's Designated Federal Officer (DFO), pursuant to DoD policy, shall be a full-time or permanent part-time DoD employee, and shall be appointed in accordance with established DoD policies and procedures.

In addition, the Commission's DFO is required to be in attendance at all meetings of the Commission and its subcommittees for the entire duration of each and every meeting. However, in the absence of the Commission's DFO, a properly approved Alternate DFO, duly appointed to the Commission according to DoD policies and procedures, shall attend the entire duration of meetings of the Commission and its subcommittees.

The DFO, or the Alternate DFO, shall approve all meetings of the Commission and its subcommittees called by the Chair of the Commission; prepare and approve all meeting agendas; and adjourn any meeting when the DFO, or the Alternate DFO, determines adjournment to be in the public interest or required by governing regulations or DoD policies and procedures. Pursuant to 41 CFR 102-3.105(j) and 102-3.140, the public or interested organizations may submit written statements to the National Commission on the Structure of the Air Force membership about the Commission's mission and functions. Written statements may be submitted at any time or in response to the stated agenda of planned meeting of National Commission on the Structure of the Air Force.

All written statements shall be submitted to the Designated Federal Officer for the National Commission on the Structure of the Air Force, and this individual will ensure that the written statements are provided to the membership for their consideration. Contact information for the National Commission on the Structure of the Air Force's Designated Federal Officer can be obtained from the GSA's FACA Database— https://www.fido.gov/facadatabase/public.asp.

The Designated Federal Officer, pursuant to 41 CFR 102-3.150, will announce planned meetings of the National Commission on the Structure of the Air Force. The Designated Federal Officer, at that time, may provide additional guidance on the submission of written statements that are in response to the stated agenda for the planned meeting in question.

Dated: April 12, 2013.
Aaron Siegel,
Alternate OSD Federal Register Liaison Officer, Department of Defense.

[FR Doc. 2013-09028 Filed 4-16-13; 8:45 am]

BILLING CODE 5001-06-P